DEPARTMENT OF DEFENSE

Department of the Army

Advisory Committee Meeting

AGENCY: Department of the Army, DOD.

ACTION: Notice of open meeting.

SUMMARY: In accordance with section 10(a)(2) of the Federal Advisory Committee Act (Pub. L. 92-463), announcement is made of the following meeting:

Name of Committee: Distance Learning/Training Technology Subcommittee of the Army Education Advisory Committee.

Date: November 12-13, 2003.

Place: Fort Eustis, VA.

Time: 8 a.m. to 4:30 p.m. on November 12, 2003; 8 a.m. to 12 p.m. on November 13, 2003.

Proposed Agenda: Initial starting point of meeting will include Updates on The Army Distance Learning Program (TADLP) and infrastructure, followed by discussions that focus on learning and technology.

Purpose of the Meeting: To provide for the continuous exchange of information and ideas for distance learning between the US Army Training and Doctrine Command (TRADOC), Headquarters, Department of the Army, and the academic and business community.

FOR FURTHER INFORMATION CONTACT: All communications regarding this subcommittee should be addressed to Mr. Rick Karpinski, at Commander, Headquarters TRADOC, ATTN: ATTG-CF (Mr. Karpinski), Fort Monroe, VA 23651-5000; e-mail karpinsr@monroe.army.mil.

SUPPLEMENTARY INFORMATION: Meeting of the advisory committee is open to the public. Because of restricted meeting space, attendance will be limited to those persons who have notified the Advisory Committee Management Office in writing at least five days prior to the meeting of their intention to attend. Contact Mr. Karpinski (karpinsr@monroe.army.mil) for meeting agenda and specific locations.

Any member of the public may file a written statement with the committee before, during, or after the meeting. To the extent that time permits, the committee chairman may allow public presentations or oral statements at the meeting.

Luz D. Ortiz,
Army Federal Register Liaison Officer.

[FR Doc. 03-27675 Filed 10-30-03; 3:42 pm]

BILLING CODE 3710-08-M